DEPARTMENT OF THE INTERIOR

Fish and Wildlife Service

[FWS-R1-ES-2014-N131; FXES11120100000-145-FF01E00000]

Draft Multi-Species General Conservation Plan and Draft Environmental Assessment; Douglas County, Washington

AGENCY: Fish and Wildlife Service, Interior.

ACTION: Notice of availability; request for comments.

SUMMARY: We, the U.S. Fish and Wildlife Service (Service), announce the availability of a draft multi-species general conservation plan (MSGCP) for Douglas County, Washington. The Service and the Foster Creek Conservation District (FCCD) developed the draft MSGCP as a programmatic approach to streamline the development of individual farm plans by non-Federal agricultural landowners and operators to facilitate their applying for incidental take permits (ITPs) under the Endangered Species Act of 1973, as amended (Act). The ITPs would authorize take of the federally endangered Columbia Basin pygmy rabbit and three other nonlisted species, should they become listed, resulting from otherwise lawful activities on non-Federal agricultural lands within Douglas County. The Service also announces the availability of a draft environmental assessment (EA) for public review and comment.

DATES: To ensure consideration, please send your written comments by January 13, 2015.

ADDRESSES: To request further information or submit written comments, please use one of the following methods, and note that your information request or comments are in reference to the Douglas County MSGCP:

• Internet: Documents may be viewed on the Internet at http://www.fws.gov/wafwo/.

• In-Person Viewing or Pickup: Documents will be available for public inspection by appointment during normal business hours at the U.S. Fish and Wildlife Service's Eastern Washington Field Office, 11103 E. Montgomery Dr., Spokane Valley, WA 99206; and at the Foster Creek Conservation District Office, Douglas County Courthouse-3rd Floor, 203 Rainier, Waterville, WA 98858.

• Email: FW1DouglasCountyGCP@fws.gov. Include “Douglas County MSGCP” in the subject line of the message.

• U.S. Mail: U.S. Fish and Wildlife Service, Eastern Washington Field Office, 11103 E. Montgomery Dr., Spokane Valley, WA 99206.

• Fax: Eastern Washington Field Office, 509-891-6748, Attn.: Douglas County MSGCP.

FOR FURTHER INFORMATION CONTACT: Michelle Eames, Project Manager, Eastern Washington Field Office (see ADDRESSES), telephone: 509-893-8010. If you use a telecommunications device for the deaf, please call the Federal Information Relay Service at 800-877-8339.

SUPPLEMENTARY INFORMATION:

Background

Section 9 of the Endangered Species Act of 1973, as amended (Act; 16 U.S.C. 1531 et seq.) prohibits take of fish and wildlife species listed as endangered or threatened under section 4 of the Act. Under the Act, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as to carry out actions that create the likelihood of injury to listed species to such an extent as to significantly disrupt normal behavioral patterns, which include, but are not limited to, breeding, feeding, or sheltering (50 CFR 17.3).

However, under specified circumstances, the Service may issue permits that allow take of federally listed species, provided that the take that occurs is incidental to, but not the purpose of, an otherwise lawful activity. Regulations governing permits for endangered and threatened species are at 50 CFR 17.22 and 17.32, respectively. Section 10(a)(1)(B) of the Act contains provisions for issuing such incidental take permits to non-Federal entities for the take of endangered and threatened species, provided the following criteria are met:

(1) The taking will be incidental;

(2) The applicant will, to the maximum extent practicable, minimize and mitigate the impact of such taking;

(3) The applicant will ensure that adequate funding for the plan will be provided;

(4) The taking will not appreciably reduce the likelihood of the survival and recovery of the species in the wild; and

(5) The applicant will carry out any other measures that the Service may require as being necessary or appropriate for the purposes of the plan.

Proposed Action

The Service and the FCCD developed the proposed MSGCP for Douglas County, Washington, as a programmatic approach to streamline the development of individual farm plans to support ITP applications under section 10(a)(1)(B) of the Act. The MSGCP would expedite Service review of such permit applications. The MSGCP is a type of programmatic conservation plan, under which multiple section 10 permits can be issued. The proposed MSGCP provides land management guidance for protecting the federally endangered Columbia Basin pygmy rabbit (Brachylagus idahoensis) and three nonlisted wildlife species, over approximately 879,000 acres of private agricultural lands in Douglas County, Washington, for the next 50 years. The three nonlisted species include the greater sage-grouse (Centrocercus urophasianus), Washington ground squirrel (Urocitellus washingtoni), and the sharp-tailed grouse (Tympanuchus phasianellus). Collectively these four species are hereafter referred to as the “covered species.” The MSGCP does not cover private, nonagricultural land uses within Douglas County, and it does not cover activities on Federal land. It also does not cover State-owned land, unless those lands are leased for agricultural production to private operators, as can occur with lands managed by the Washington Department of Natural Resources.

The Douglas County MSGCP will streamline the development of future ITP applications, which, if approved, would authorize the incidental take of federally endangered or threatened species resulting from otherwise lawful activities on non-Federal agricultural lands within Douglas County. Should any of the nonlisted covered species become federally listed as endangered or threatened under the Act during the term of an ITP, take authorization for those species would become effective upon listing, as long as the permittee is in compliance with the terms of the MSGCP and ITP. Agricultural landowners and operators participating in the Douglas County MSGCP under an ITP would be provided with legal authority to conduct covered agricultural activities that cause incidental take of listed species. The MSGCP covers numerous activities associated with dryland farming, ranching, and some irrigated farming in Douglas County. Farmers and ranchers in Douglas County may voluntarily apply for ITPs under the MSGCP. The Service will publish notice of the receipt of applications in the Federal Register and request public comments. If an application is consistent with expectations of the MSGCP, the EA and related documents and all other applicable Federal laws and regulations, the USFWS will issue the ITP. An ITP is needed to authorize the incidental take of federally endangered and threatened species that may occur as a result of covered agricultural activities.

The proposed Douglas County MSGCP includes measures to minimize and mitigate, to the maximum extent practicable, the impacts of farming and ranching activities that may incidentally take the covered species. Avoidance, minimization, and mitigation measures in the MSGCP include development of farm plans, implementation of best management practices, and an adaptive management and monitoring plan. The draft MSGCP and draft EA address and analyze the impacts of incidental take of the covered species resulting from agricultural activities.

The purpose of developing a MSGCP is to allow potential applicants for an ITP to use the provisions in the MSGCP instead of developing their own individual habitat conservation plans. Under this scenario, the MSGCP allows multiple applicants to conduct similar activities within a predetermined area, while jointly conserving the covered species and their habitats. Implementation of the Douglas County MSGCP, rather than a species-by-species or plan-by-plan approach, will maximize the benefits of conservation measures for covered species at a larger landscape scale and facilitate future review of multiple individual ITPs.

National Environmental Policy Act Compliance

The development of the draft MSGCP for Douglas County and the proposed issuance of ITPs under this plan is a Federal action that triggers the need for compliance with the National Environmental Policy Act of 1969, as amended (42 U.S.C. 4321 et seq.; NEPA). We have prepared a draft EA to analyze the environmental impacts of three alternatives related to the issuance of ITPs and implementation of the conservation program under the proposed MSGCP. The three alternatives include the proposed action, a no-action alternative, and an expanded conservation lands alternative.

The proposed action alternative is the implementation of the MSGCP and issuance of ITPs to participating agricultural landowners and operators in Douglas County.

Under the no-action alternative, the proposed MSGCP would not be implemented and no ITPs would be issued to agricultural landowners and operators in Douglas County to cover the incidental take of covered species resulting from farming and ranching activities. The no-action alternative would not give agricultural landowners and operators regulatory certainty, and actions that could result in take of listed species on non-Federal lands would be prohibited under section 9 of the Act.

The expanded conservation lands alternative would include many of the same features as described for the proposed action alternative, including the same covered activities, covered species, and monitoring and adaptive management. The key difference would be in the approach to managing conservation lands. In recent years, the conservation of all wildlife species in Douglas County has been considerably improved by implementation of the Natural Resources Conservation Service's Conservation Reserve Program (CRP). Prior to 2009, about 33 percent of the “eligible lands” in Douglas County (186,144 acres) were enrolled in the CRP. This expanded conservation lands alternative involves an increase in the extent of lands enrolled in the CRP or similar protected lands by 100,000 acres above the 2009 benchmark of 186,144 acres over the next 10 years, to a level of about 50 percent of the eligible lands in Douglas County. This would be a voluntary commitment on the part of landowners.

Public Comments

You may submit your comments and materials by one of the methods listed in the ADDRESSES section. We specifically request information, views, and opinions from the public on our proposed Federal action, including identification of any other aspects of the human environment not already identified in the draft EA pursuant to NEPA regulations in the Code of Federal Regulations (CFR) at 40 CFR 1506.6. Further, we specifically solicit information regarding the adequacy of the MSGCP pursuant to the requirements for ITPs at 50 CFR parts 13 and 17.

Public Availability of Comments

All comments and materials we receive become part of the public record associated with this action. Before including your address, phone number, email address, or other personally identifiable information (PII) in your comments, you should be aware that your entire comment—including your PII—may be made publicly available at any time. While you can ask us in your comment to withhold your PII from public review, we cannot guarantee that we will be able to do so. Comments and materials we receive, as well as supporting documentation we use in preparing the EA, will be available for public inspection by appointment, during normal business hours, at our Eastern Washington Field Office (see ADDRESSES).

Next Steps

After completion of the EA, we will determine whether adoption of the Douglas County MSGCP warrants a finding of no significant impact or whether an environmental impact statement should be prepared. We will evaluate the Douglas County MSGCP and its potential use by future ITP applicants, as well as any comments we receive, to determine whether the MSGCP, when used by ITP applicants, would meet the requirements for issuance of ITPs under section 10(a)(1)(B) of the Act. We will also evaluate whether issuance of section 10(a)(1)(B) ITPs under the MSGCP would comply with section 7 of the Act by conducting an intra-Service section 7 consultation on anticipated ITP actions.

Authority

We provide this notice in accordance with the requirements of section 10 of the Act (16 U.S.C. 1531 et seq.) and NEPA regulations (40 CFR 1501.7, 1506.6, and 1508.22).

Dated: October 21, 2014.
Richard Hannan,
Deputy Regional Director, Pacific Region, U.S. Fish and Wildlife Service, Portland, Oregon.

[FR Doc. 2014-27021 Filed 11-13-14; 8:45 am]

BILLING CODE 4310-55-P